NUCLEAR REGULATORY COMMISSION

[NRC-2022-0190]

Comment on Report on Waste Burial Charges: Changes in Decommissioning Waste Disposal Costs at Low-Level Waste Burial Facilities

AGENCY: Nuclear Regulatory Commission.

ACTION: Response to comment.

SUMMARY: The U.S. Nuclear Regulatory Commission (NRC) received a public comment from EnergySolutions to the draft report entitled, NUREG-1307, Revision 19, “Report on Waste Burial Charges: Changes in Decommissioning Waste Disposal Costs at Low-Level Waste Burial Facilities.” EnergySolutions' comment identified a cost escalation error that it had generated and used to develop unit disposal costs for the Clive, Utah, low-level waste disposal facility. EnergySolutions subsequently submitted this information in July 2022, for the preparation of draft NUREG-1307, Revision 19. The erroneous unit disposal cost information was published in the draft and final NUREG-1307, Revision 19. The EnergySolutions' comment provided revised disposal cost information that would impact the waste burial escalation factors presented in NUREG-1307, Revision 19.

DATES: NUREG-1307, Revision 19, is available as of February 17, 2023.

ADDRESSES: Please refer to NRC-2022-0190 when contacting the NRC about the availability of information regarding this notice. You may obtain publicly available information related to this document using any of the following methods:

• Federal Rulemaking website: Go to https://www.regulations.gov and search for Docket ID NRC-2022-0190.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. NUREG-1307, Revision 19, “Report on Waste Burial Charges: Changes in Decommissioning Waste Disposal Costs at Low-Level Waste Burial Facilities,” is available in ADAMS under Accession No. ML23044A207.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. eastern time (ET), Monday through Friday, except Federal holidays.

FOR FURTHER INFORMATION CONTACT: Emil Tabakov, Office of Nuclear Material Safety and Safeguards, U.S. Nuclear Regulatory Commission, Washington, DC 20555-0001; telephone: 301-415-6814, email: Emil.Tabakov@nrc.gov.

SUPPLEMENTARY INFORMATION:

I. Discussion

The NRC published a notice in the Federal Register on November 29, 2022 (87 FR 73345) requesting public comment on draft NUREG-1307, Revision 19, “Report on Waste Burial Charges: Changes in Decommissioning Waste Disposal Costs at Low-Level Waste Burial Facilities.” The public comment period on the draft NUREG closed on December 29, 2022. On February 17, 2023 (88 FR 10388) the NRC published the final NUREG-1307, Revision 19 (ADAMS Accession No. ML23044A207). The NRC had received two public comments (the February 17, 2023, Federal Register notice stated that four comments had been received), however, only one comment and the NRC's response to that comment was included in the comment resolution matrix available in ADAMS under Accession No. ML23038A239.

The NRC acknowledges that EnergySolutions submitted a notification (ADAMS Accession No. ML23010A223), dated December 28, 2022, characterized as a comment, on the draft NUREG. EnergySolutions communicated that it had identified errors in its cost escalation, resulting in disposal unit rate cost data that required revisions. The disposal unit rate cost data were first submitted in July 2022 for preparation of the draft NUREG. EnergySolutions' notification states “[a]n error in applying cost escalation occurred with the disposal unit rates provided in response to NUREG-1307 Rev 19 survey for non-compact disposal rates.” However, the staff recognized that revised disposal unit rate cost information provided by EnergySolutions in its notification was received too late to be evaluated and considered for inclusion in the development and issuance of the final NUREG-1307, Revision 19. The NRC staff determined it was not possible to make the conforming changes to Revision 19 without causing an undue delay in the publication of the NUREG-1307, Revision 19. A delay in publication would have negatively affected licensees required to submit decommissioning funding assurance status reports by March 31, 2023. Hence, the NRC will not reissue NUREG-1307, Revision 19 for this reporting period. However, NRC staff will consider revised data provided by EnergySolutions, on a case-by-case basis, when conducting its review of decommissioning funding assurance status reports submitted by licensees during the 2023 reporting period. A revised comment resolution matrix addressing the two comments received during the public comment period is available at ADAMS Accession No. ML23067A083.

II. Additional Information

Pursuant to section 50.75 of title 10 of the Code of Federal Regulations (10 CFR), “Reporting and Recordkeeping for Decommissioning Planning,” the NRC requires nuclear power reactor licensees to adjust annually, in current year dollars, their estimate of the cost to decommission their plants. The annual updates are part of the process for providing reasonable assurance that adequate funds for decommissioning will be available when needed. Every two years, licensees report this information, along with other decommissioning funding assurance information, to the NRC for review.

Revision 19 of NUREG-1307, “Report on Waste Burial Charges: Changes in Decommissioning Waste Disposal Costs at Low-Level Waste Burial Facilities,” modifies Revision 18 to this report issued in January 2021 (ADAMS Accession No. ML21027A302) and incorporates updates to the adjustment factor, through changes to the labor, energy, and waste burial escalation factors, of the NRC minimum decommissioning fund formula. Based on revised low-level waste burial factors presented in the report and increases in labor and energy rates, the minimum decommissioning fund formula amounts calculated by all operating power reactor licensees likely will reflect moderate to more substantial increases when compared to those previously reported by licensees in 2021.

Dated: March 10, 2023.
For the Nuclear Regulatory Commission.
Frederick R. Miller,
Chief, Financial Assessment Branch, Division of Rulemaking, Environmental, and Financial Support, Office of Nuclear Material Safety and Safeguards.

[FR Doc. 2023-05347 Filed 3-15-23; 8:45 am]

BILLING CODE 7590-01-P